DEPARTMENT OF THE INTERIOR

National Park Service

National Register of Historic Places; Weekly Listing of Historic Properties

Pursuant to (36CFR60.13(b,c)) and (36CFR63.5), this notice, through publication of the information included herein, is to appraise the public as well as governmental agencies, associations and all other organizations and individuals interested in historic preservation, of the properties added to, or determined eligible for listing in, the National Register of Historic Places from October 14 to October 17, 2008.

For further information, please contact Edson Beall via: United States Postal Service mail, at the National Register of Historic Places, 2280, National Park Service, 1849 C St., NW., Washington, DC 20240; in person (by appointment), 1201 Eye St. NW., 8th floor, Washington DC 20005; by fax, 202-371-2229; by phone, 202-354-2255; or by e-mail, Edson_Beall@nps.gov.

Dated: November 12, 2008.
J. Paul Loether,
Chief, National Register of Historic Places/National Historic Landmarks Program.

KEY: State, County, Property Name, Address/Boundary, City, Vicinity, Reference Number, Action, Date, Multiple Name

ALABAMA

Chambers County

Vines Funeral Home and Ambulance Service, 211 B St. SW., Lafayette, 08000434, LISTED, 10/15/08

ARKANSAS

Cleburne County

Rector House, 603 W. Quitman St., Heber Springs, 08000486, LISTED, 10/17/08

COLORADO

Hinsdale County

Tobasco Mine and Mill, South of San Juan County Rd. 5 and Hinsdale County Rd. 34, Lake City vicinity, 08000983, LISTED, 10/16/08, (Hinsdale Metal Mining MPS)

CONNECTICUT

Hartford County

Ambassador Apartments, 206-210 Farmington Ave., Hartford, 08000859, LISTED, 10/16/08

KANSAS

Marshall County

Waterville Opera House, 200 E. Front St., Waterville, 08000984, LISTED, 10/16/08 (Theaters and Opera Houses of Kansas MPS)

KANSAS

McPherson County

Farmers State Bank, 101 S. Main, Lindsborg, 08000985, LISTED, 10/16/08

KANSAS

Ness County

Lion Block, 216 West Main, Ness City, 08000986, LISTED, 10/16/08

KANSAS

Shawnee County

St. John African Methodist Episcopal Church, 701 SW Topeka Blvd., Topeka, 08000987, LISTED, 10/16/08

KANSAS

Wyandotte County

Northeast Junior High School, 400 Troup Ave., Kansas City, 08000988, LISTED, 10/16/08 (Public Schools of Kansas MPS)

LOUISIANA

Orleans Parish

Blue Plate Building, 1315 S. Jefferson Davis Parkway, New Orleans, 08000989, LISTED, 10/16/08

LOUISIANA

St. Martin Parish

Voorhies, D.W. House, 410 Washington St., St. Martinsville, 08001011, LISTED, 10/16/08

MAINE

Hancock County

Surry Town Hall, 1217 Surry Rd., Surry, 08000993, LISTED, 10/16/08

MAINE

Oxford County

Soldiers Memorial Library, 85 Main St., Hiram, 08000992, LISTED, 10/16/08, (Maine Public Libraries MPS)

MONTANA

Flathead County

Lake McDonald Lodge Coffee Shop, Lake McDonald Lodge Blvd., Lake McDonald, Glacier National Park, 08001014, LISTED, 10/14/08

NORTH DAKOTA

Griggs County

Oscar-Zero Missile Alert Facility, St. Hwy. 45, Cooperstown vicinity, 08000994, LISTED, 10/14/08

OHIO

Franklin County

Temperance Row Historic District, Vicinity of Park, Grove, Walnut and University Sts., Westerville, 08000995, LISTED, 10/16/08

VERMONT

Chittenden County

House at 44 Front Street, 42-44 Front St., Burlington, 08000997, LISTED, 10/16/08 (Burlington, Vermont MPS)

WISCONSIN

Columbia County

Byrns, Daniel and Nellie, House, 221 Mill St., Lodi, 08001000, LISTED, 10/16/08

WISCONSIN

Columbia County

Pruyn, Joel M., Block, 146 S. Main St., Lodi, 08001001, LISTED, 10/14/08

WYOMING

Campbell County

Gillette Post Office, 301 S. Gillette Ave., Gillette, 08001002, LISTED, 10/14/08 (Historic U.S. Post Offices in Wyoming, 1900-1941, TR)

WYOMING

Converse County

Hotel LaBonte, 206 Walnut St., Douglas, 08001003, LISTED, 10/10/08

WYOMING

Natrona County

Grant Street Grocery and Market, 815 S. Grant St., Casper, 08001005, LISTED, 10/15/08

WYOMING

Platte County

Platte County Courthouse, 800 9th St., Wheatland, 08001004, LISTED, 10/15/08

[FR Doc. E8-27292 Filed 11-17-08; 8:45 am]

BILLING CODE 4310-70-P